FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than August 14, 2006.

A. Federal Reserve Bank of Boston (Richard Walker, Community Affairs Officer) P.O. Box 55882, Boston, Massachusetts 02106-2204:

1. Fidelity Mutual Holding Company and Life Design Holding Company, both of Fitchburg, Massachusetts; to become a bank holding company by acquiring Fidelity Co-Operative Bank, Fitchburg, Massachusetts.

B. Federal Reserve Bank of Chicago (Patrick M. Wilder, Assistant Vice President) 230 South LaSalle Street, Chicago, Illinois 60690-1414:

1. Oakland Financial Services, Inc., Oakland, Iowa; to aquire up to 33.3 percent of the non voting equity of Otoe County Bancorporation, Inc., Nebraska City, and thereby indirectly acquire Otoe County Bank & Trust Company, Nebraska City, Nebraska.

2. Southwest Company, Sidney, Iowa; to acquire up to 33.3 percent of the non voting equity of Otoe County Bancorporation, Inc., Nebraska City, Nebraska, and thereby indirectly acquire Otoe County Bank & Trust Company, Nebraska City, Nebraska.

Board of Governors of the Federal Reserve System, July 13, 2006
Robert deV. Frierson,
Deputy Secretary of the Board.

[FR Doc. E6-11322 Filed 7-17-06; 8:45 am]

BILLING CODE 6210-01-S